NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995, Public Law 104-13 (44 U.S.C. 3501 et seq.). This is the second notice for public comment; the first was published in the Federal Register at 79 FR 2014-18873 filed 11 August 2014, and no comments were received. Comments regarding whether the collection of information is necessary for the proper performance of the functions of the NSF, including whether the information will have practical utility; the accuracy of the NSF's estimate of the burden of the proposed collection of information; ways to enhance the quality, utility and clarity of the information to be collected, including through the use of automated collection techniques or other forms of information technology; ways to minimize the burden of the collection of information on those who are to respond, including through the use of appropriate automated or other forms of information technology should be addressed to: Office of Information and Regulatory Affairs of OMB, Attention: Desk Officer for National Science Foundation, 725 7th Street NW., Room 10235, Washington, DC 20503, and to Suzanne H. Plimpton, Reports Clearance Officer, National Science Foundation, 4201 Wilson Boulevard, Suite 1265, Arlington, Virginia 22230 or send email to splimpto@nsf.gov. Comments regarding these information collections are best assured of having their full effect if received within 30 days of this notification. Copies of the submission may be obtained by calling 703-292-7556. Individuals who use a telecommunications device for the deaf (TDD) may call the Federal Information Relay Service (FIRS) at 1-800-877-8339, which is accessible 24 hours a day, 7 days a week, 365 days a year (including federal holidays).

NSF may not conduct or sponsor a collection of information unless the collection of information displays a currently valid OMB control number and the agency informs potential persons who are to respond to the collection of information that such persons are not required to respond to the collection of information unless it displays a currently valid OMB control number.

SUPPLEMENTARY INFORMATION:

Title of Collection: 2015 Survey of Doctorate Recipients.

OMB Approval Number: 3145-0020.

Summary of Collection. The Survey of Doctorate Recipients (SDR) has been conducted biennially since 1973 and is a longitudinal survey. The 2015 SDR will consist of a sample of individuals less than 76 years of age who have earned a research doctoral degree in a science, engineering or health field from a U.S. institution. The purpose of this longitudinal survey is to collect data that will be used to provide national estimates on the U.S.-educated doctoral science and engineering workforce and changes in their employment, education and demographic characteristics.

The National Science Foundation Act of 1950, as subsequently amended, includes a statutory charge to “. . . provide a central clearinghouse for the collection, interpretation, and analysis of data on scientific and engineering resources, and to provide a source of information for policy formulation by other agencies of the Federal Government.” More recently, the National Center for Science and Engineering Statistics (NCSES) was established within NSF by Section 505 of the America COMPETES Reauthorization Act of 2010 and given a broader mandate to collect data related to STEM education, the science and engineering workforce, and U.S. competitiveness in science, engineering, technology, and R&D. The SDR is designed to comply with these mandates by providing information on the supply and utilization of the nation's doctoral scientists and engineers.

The NSF uses the information from the SDR to prepare congressionally mandated reports such as Women, Minorities and Persons with Disabilities in Science and Engineering and Science and Engineering Indicators. The NSF publishes statistics from the SDR in many reports, but primarily in the biennial series, Characteristics of Doctoral Scientists and Engineers in the United States. A public release file of collected data, designed to protect respondent confidentiality, also will be made available to researchers on the Internet.

Data will be obtained by web survey, mail questionnaire, and computer-assisted telephone interviews beginning in September 2015. The survey will be collected in conformance with the Confidential Information Protection and Statistical Efficiency Act of 2002, and the individual's response to the survey is voluntary. NSF will ensure that all information collected will be kept strictly confidential and will be used only for statistical purposes.

A statistical sample of approximately 120,000 individuals with U.S.-earned doctorates in science, engineering or health will be contacted in 2015. This sample will include approximately 106,000 individuals residing in the U.S. and 14,000 residing abroad. NSF expects the overall response rate to be 70 percent.

Estimate of Burden: The amount of time to complete the questionnaire may vary depending on an individual's circumstances; however, on average it takes approximately 25 minutes. Assuming a 70 percent response rate (84,000 respondents), NSF estimates that the annual burden for the 2015 SDR is estimated to be 35,000 hours.

Comment: On 11 August 2014, NSF published in the Federal Register (79 FR 2014-18873) a 60-day notice of our intent to request reinstatement of this information collection authority from OMB. In that notice, NSF solicited public comments for 60 days ending 10 October 2014. No comments were received from the public notice. However, the first notice stated, “NSF estimates increasing the current 47,000 sample size by no more than 70,000 for a total sample size not to exceed 117,000 SEH doctorate holders” and assumed a response rate of 80%. After additional sample redesign work, the sample size and estimated response rates were changed to those described above: A sample of approximately 120,000 with a 70% response rate, and a September, rather than February, start date. The later start date reflects the time spent on the redesign efforts, and the additional work required to select and locate new sample members.

Dated: June 18, 2015.
Suzanne H. Plimpton,
Reports Clearance Officer, National Science Foundation.

[FR Doc. 2015-15465 Filed 6-23-15; 8:45 am]

BILLING CODE 7555-01-P